FEDERAL COMMUNICATIONS COMMISSION

47 CFR Parts 0, 43, and 63

[IB Docket No. 04-112; FCC 11-76]

Reporting Requirements for U.S. Providers of International Telecommunications Services

AGENCY: Federal Communications Commission.

ACTION: Proposed rule.

SUMMARY: In this document, the Federal Communications Commission (Commission) is reviewing its reporting requirements for providers of international telecommunications services. The Commission proposes to amend its reporting requirements for providers of international telecommunications services and transmission facilities in order to simplify the filing of the annual traffic and revenue report and the annual circuit-status report and modernize the information collected under those reports. The Commission also proposes to amend its rules to create a new annual services report designed to obtain basic information about providers of international telecommunications services and to update contact information. The Commission also proposes to amend its rules to clarify the confidential treatment of certain disaggregated information reported under the traffic and revenue report and the circuit-status report. This action is part of the Commission's comprehensive review of its international reporting requirements and is intended to remove unnecessary information collections and tailor its information collections to the current state of the international telecommunications market.

DATES: Submit comments on or before August 18, 2011, and replies on or before September 2, 2011. Paperwork Reduction Act (PRA) comments should be on or before September 19, 2011.

ADDRESSES: You may submit comments, identified by Docket No. 04-112, by any of the following methods:

• Federal eRulemaking Portal: http://www.regulations.gov. Follow the instructions for submitting comments.

• Federal Communications Commission's Web Site: http://fjallfoss.fcc.gov/ecfs2/. Follow the instructions for submitting comments.

• People with Disabilities: Contact the FCC to request reasonable accommodations (accessible format documents, sign language interpreters, CART, etc.) by e-mail: FCC504@fcc.gov, Phone: 202-418-0530 or TTY: 202-418-0432.

For detailed instructions for submitting comments and additional information on the rulemaking process, see the SUPPLEMENTARY INFORMATION section of this document.

FOR FURTHER INFORMATION CONTACT: David Krech, John Copes, or Sean O'More, Policy Division, International Bureau, FCC, (202) 418-1460 or via the Internet at mail to: David.Drech@fcc.gov, John.Copes@fcc.gov, and Sean.O'More@fcc.gov. On PRA matters contact Cathy Williams, Office of the managing Director, FCC (202) 418-2918 or via the Internet at mail to: Cathy.Williams@fcc.gov.

SUPPLEMENTARY INFORMATION: This is a summary of the Further Notice of Proposed Rulemaking portion of the Commission's First Report and Order and Further Notice of Proposed Rulemaking, IB Docket No. 04-112, FCC 11-76, adopted May 12, 2011, and released May 13, 2011. The full text of the First Report and Order and Further Notice of Proposed Rulemaking is available for inspection and copying during normal business hours in the FCC Reference Center, 445 12th Street, SW., Washington, DC 20554. The document also is available for download over the Internet at http://transition.fcc.gov/Daily_Release/Daily_Business/2011db0513/FCC-11-76A1.pdf. The complete text also may be purchased from the Commission's copy contractor, Best Copy and Printing, Inc. (BCPI), located in Room CY-B402, 455 12th Street, SW., Washington, DC 20554. Customers may contact BCPI at its Web site: http://www.bcpiweb.com or call 1-800-378-3160.

Comment Filing Procedures

Pursuant to 47 CFR 1.415, 1.419, interested parties my file comments and reply comments on or before the dates indicated above. Comments may be filed using the Commission's Electronic Comment Filing System (ECFS) or by hand delivery. See Electronic Filing of Documents in Rulemaking Proceedings, 63 FR 24121 (1998).

• Electronic Filers: Comments may be filed using the Commission's Electronic Comment Filing System (ECFS) at http://fjallfoss.fcc.gov/ecfs2/. See Electronic Filing of Documents in Rulemaking Proceedings, 63 FR 24121 (1998).

• Paper Filers: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

○ All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes and boxes must be disposed of before entering the building.

○ Commercial overnight mail (other than U.S. Postal Service Express Mail and Priority Mail) must be sent to 9300 East Hampton Drive, Capitol Heights, MD 20743.

○ U.S. Postal Service first-class, Express, and Priority mail must be addressed to 445 12th Street, SW., Washington, DC 20554.

Summary of Notice of Proposed Rulemaking

1. In the First Report and Order and Further Notice of Proposed Rulemaking, the Federal Communications Commission (Commission) continues its comprehensive review of the international reporting requirements for U.S. providers of international telecommunications services. In the First Report and Order portion of the document, which is published elsewhere in this issue, the Commission retained the annual international traffic and revenue and circuit status reporting requirements, 47 CFR 43.61(a) and 43.82. Although the Commission is retaining the annual international traffic and revenue and circuit-status reports, it believes that those reporting requirements can and should be modernized and streamlined. This FNPRM sets forth a number of proposed changes to the reporting requirements and seeks comment on those proposals.

2. In the Notice of Proposed Rulemaking (NPRM), 69 FR 29676, May 25, 2004, the Commission made a number of proposals for changes to the reporting requirements, and the Staff Recommendations in the NPRM discussed several more possible changes. Since then, the Commission received formal comments in this proceeding, held meetings with the carriers, and received written ex parte comments. Based on that input and further evaluation of the reporting requirements and the type of information that the Commission needs, the Commission altered and refined many of those proposals. In this FNPRM, the Commission seeks comment on these revised proposals, and seeks to refresh the record on some of the proposals previously discussed in the NPRM since the comments on those proposals were filed almost seven years ago. The Commission has also identified entities that provide international communications services but do not currently file traffic and revenue or circuit-status reports. It seeks comment whether public interest requires that the Commission obtain information from these entities. The Commission also seeks comment on proposals to clarify the confidential treatment of certain disaggregated information reported under the traffic and revenue report and the circuit-status report.

3. Consolidation of Traffic and Revenue Report and Circuit-Status Report. The Commission proposes to consolidate the traffic and revenue report, 47 CFR 43.61(a), and the circuit-status report, 43.82, into one rule, the proposed 47 CFR 43.62, to adopt a new filing manual to cover both reports and to consolidate the current separate filing dates for the two reports into one date. Currently, carriers must file annual circuit-status reports on or before March 31 and must file the annual traffic and revenue reports on or before July 31. The Commission proposes to require filing entities to file both reports on or before May 1. The Commission also proposes to create a single filing manual with instructions for filing both the annual traffic and revenue and the circuit-status reports. The Commission believes a consolidated filing manual would be more user friendly than two separate manuals, would provide consistent definitions and would ensure that information is reported in a more uniform manner.

Proposed Changes to the Reporting Requirements

4. Services Report. The Commission proposes to require all filing entities to file an annual Services Report. The Services Report would consist of a Registration Form and a Services Checklist. The Registration Form would seek basic information about a filing entity's filing and about the entity itself—such as address, phone number, e-mail address, and the international section 214 authorizations held, if any. The Services Checklist would contain a series of boxes that filing entities would check to provide some basic information about their operations, if any, during the previous year.

5. Changes to the Annual Traffic and Revenue Report. The Commission seeks comment on a variety of proposals to the annual traffic and revenue report that it believes will streamline the report by eliminating the reporting of unnecessary information, while modernizing the report by requiring reporting of information more relevant to the current state of the international telecommunications market. First, the Commission proposes to eliminate the use of billing codes that require carriers to disaggregate their international telephone message service (IMTS) traffic to report various routing and billing arrangements. In their place, the Commission proposes to adopt a series of filing schedules that would allow filing entities to report their traffic on a more aggregated basis. The Commission also proposes to eliminate the requirement that filing entities report the number of IMTS messages (i.e., calls) they handle. The Commission has never needed to use the number of IMTS calls in performing its analyses and sees no reason to continue to require filing entities to report them. The Commission also proposes to eliminate the requirement that filing entities report a regional total for tier IMTS and private line traffic.

6. The Commission proposes to require filing entities to disaggregate the minutes terminated on foreign networks and settlement payouts between calls terminated on fixed line networks and those terminated on mobile networks. In recent years, many foreign carriers have instituted significantly different settlement rates for call completion services to fixed-line and mobile networks, and these differences vary substantially by route. The Commission is concerned that the settlement rates for terminating U.S.-billed IMTS calls on mobile networks may be excessive, not based on costs, and discriminatory. Because there is little information currently available on mobile settlement rates, the Commission believes the public interest requires it to gather additional information on such rates. The Commission needs this information to monitor the evolution of mobile settlement rates as basis for taking corrective action if it finds such action necessary in the future.

7. The Commission proposes to require filing entities to report their world-total IMTS traffic and revenues by customer category (residential and mass market, business and government, U.S. resellers, and reoriginated foreign traffic) and by routing arrangement (U.S.-billed facilities IMTS, IMTS resale, and traditional transiting IMTS). This information appears to be essential to understanding the international telecommunications markets. Specifically, the Commission proposes to require world-total IMTS traffic and revenue data be disaggregated for each of the following customer classes: (1) “Residential and mass market;” (2) “business and government;” and (3) “U.S. resellers.” Carriers would be required to report the total minutes and revenues associated with reoriginated traffic on a world-total basis. This proposal simplifies the Staff Recommendations in the NPRM by limiting disaggregation of IMTS data by customer and routing arrangement only to world-total IMTS traffic data. Obtaining information on service sold to various classes of customers and through various routing arrangements would give the Commission additional information it needs to monitor the U.S. IMTS market.

8. The Commission proposes to require filing entities to allocate their non-route-specific revenues to specific U.S. international routes. Non-route-specific revenues are those revenues for international services that are not directly associated with individual calls or, in the case of private lines, with specific lines. They include monthly recurring fees for service plans that include international service an other revenue that cannot be identified with particular destination countries. The Commission seeks comment on whether to set out a specific allocation method or to allow each filing entity to determine an allocation method appropriate for its unique situation. The Commission also proposes that filing entities identify the percentage of revenue for U.S.-billed IMTS subject to the allocations procedures.

9. The Commission proposes to have filing entities report traditional transiting traffic on a world-total basis. It proposes to retain the requirement that filing entities include the terminating leg of traffic that they reoriginated for a foreign carrier in their route-specific data, but no longer report the originating leg. Filing entities would also report reoriginated traffic on a world-total basis. In addition, the Commission proposes to require filing entities to report hubbed or reoriginated traffic on a world-total basis. Filing entities should report IMTS traffic that goes through a “spot market” as part of their facilities IMTS or resale IMTS, as appropriate. The Commission proposes that filing entities include country-beyond and country-direct services, as well as call-back services, in their U.S.-billed traffic and revenue data.

10. The commission proposes that service providers with less than $5 million in IMTS resale revenues for the annual reporting period, and who do not provide facilities IMTS, should be exempted from filing their IMTS resale traffic and revenue data. It also proposes to eliminate the requirements that filing entities submit a list of the destinations to which they provide IMTS resale service. With a $5 million threshold, in 2009 over 1,100 carriers would not have needed to file traffic and revenue data. The 86 carriers that would have filed traffic and revenue data in 2009 under a $5 million threshold comprised 96 percent of the IMTS resale revenues for that year.

11. The Commission proposes to eliminate the current requirement that filing entities break down their private line service data into six categories based on the speed (bits per second) of the service. It proposes to continue to require filing entities to report their private line services provided over owned facilities on a route-specific basis, but that filing entities report their circuits and revenues for service provided over resold circuits on a world-total basis only. The Commission proposes that filing entities report their data services with miscellaneous services rather than their private line services. It proposes to streamline the reporting requirements for miscellaneous services by eliminating the current requirement to report by world region and to report traffic volumes (e.g., minutes, messages, lines, etc.) or payouts to foreign carriers. The Commission proposes to streamline the reporting requirement for miscellaneous and data services by only requiring filing entities to report services for which they have revenues of $5 million or more. Filing entities would report each of their miscellaneous and data services with $5 million or more in revenue by providing the name of the service, a brief description of the service, and the world total revenue for the service.

12. Proposed Changes to the Circuit-Status Report. The Commission finds that although it continues to need international circuit-status data, it can simplify the reporting requirement and still obtain the information that it needs. The Commission therefore proposes to streamline the circuit-status reporting requirements by eliminating reporting by service categories and the reporting of derived circuits.

Possible New Filing Entities

13. Providers of Interconnected VoIP Service. The Commission seeks comment whether it should require providers of interconnected Voice over Internet Protocol (VoIP) service, see 47 CFR 9.3, to submit data regarding their provision of international telephone services under the proposed streamlined reporting rules. Specifically, should the Commission require interconnected VoIP providers to report their international voice traffic and revenue in the same manner that carriers report their IMTS traffic and revenue? International voice traffic generated by interconnected VoIP service appears to constitute a significant and growing component of the U.S. international voice traffic market, and the Commission is concerned that it may not be to able understand the IMTS marking without data regarding international interconnected VoIP traffic. The Commission also seeks comment on its legal authority to have interconnected VoIP providers file international traffic and revenue data. Specifically, the Commission seeks comment on whether requiring interconnected VoIP service providers to meet certain of 47 CFR part 43 reporting requirements is reasonably ancillary to the effective performance of the Commission's statutory obligations under the Communications Act, 47 U.S.C. 151 et seq., and the Cable Landing License Act of 1921, 47 U.S.C. 35-39. The Commission also seeks comment whether it should require providers of VoIP service that may not conform to the definition of “interconnected VoIP” to report their international voice traffic and revenue data, including any entities other than interconnected VoIP providers that may have access to the information needed to provide international traffic and revenue data for interconnected VoIP.

14. Owners of Non-Common Carrier International Circuits. The Commission seeks comment on whether non-common carrier international circuits should be reported in addition to common carrier circuits. At the time the Commission adopted the circuit-status reporting requirement, most circuits were provided by common carriers and almost all submarine cables were common carrier facilities. Increasingly, however, many of the facilities that are used for providing international services—submarine cable, satellite, and terrestrial—are operated on a non-common carrier basis. The Commission seeks comment whether its statutory obligations under the Cable Landing License Act require it to gather information about the use of international non-common carrier circuits. Further the Commission seeks comment on whether it has authority under the Communications Act to require the reporting of international non-common carrier circuits.

Confidentiality

15. The Commission generally treats traffic and revenue information submitted under 47 CFR 43.61 as non-confidential except for specific pieces of information such as transit information, and has accorded confidentiality to circuit-status information filed under 47 CFR 43.82. The Commission believes that it serves the public interest by making information filed with the Commission available to the public, subject to protections afforded by law. It recognizes that there is international traffic and revenue and circuit-status information that appropriately should be treated as confidential. It does not appear, however, that all such information filed with the Commission should be given blanket treatment as confidential and made unavailable for public inspection. On a going-forward basis, the Commission seeks to determine what information should be identified as “not routinely available to the public under our rules.”

16. Traffic and revenue information. The Commission proposes to identify traffic and revenue filed with the Commission that would be treated as not routinely available to the public. The Commission would consider other information to be routinely available for public inspection subject to our rules. For example, the Commission is proposing in the FNPRM to require service providers to disaggregate the traffic they terminate on foreign fixed-line networks from the traffic they terminate on foreign mobile networks. Such disaggregated reporting could raise competitive concerns for carriers. The Commission believes that it can accommodate such concerns in the same way it now treats disaggregated information in the current traffic and revenue report—it could adopt a proprietary schedule on which carriers report separately the traffic they terminate on foreign fixed-line and mobile networks. The Commission would keep such information confidential and allow filing entities to file a separate schedule in which they would aggregate the two methods of termination and thereby prevent competitors from deriving any specific cost information. Service providers would file this aggregated schedule in a separate, “public” version of their traffic and revenue reports that the Commission could then make routinely available to the public.

17. The Commission proposes to provide in 47 CFR 0.457 that disaggregated revenue, traffic and payout data information would not be routinely available for public inspection. As further guidance for the public, the Commission would instruct the International Bureau to include in its Filing Manual detailed examples of records that would be so treated. Commenters should address whether this information or any other type of information that the Commission proposes that they provide should be considered disaggregated and treated as not routinely available for public inspection. Commenters should explain the basis for confidential treatment under the standards of 47 CFR 0.459(a)(1), with sufficient specificity to explain how public release of the information would be competitively harmful. Commenters should also address how the passage of time may make sensitive information non-sensitive. Specifically, the Commission requests comment whether such information could be released after two years, without causing competitive harm.

18. Revised Circuit-Status Report. In the FNPRM, the Commission proposes revisions to the circuit status data to be reported. The Commission requests comment on whether the new, simplified circuit-status report that proposed in the FNPRM contains competitively sensitive information and whether they believe there will be a need for the information to be kept confidential. As with the traffic and revenue information, the Commission proposes to identify the circuit information that should continue to be treated as not routinely available.

Paperwork Reduction Act of 1995 Analysis

19. The Further Notice of Proposed Rulemaking portion of this First Report and Order and Further notice of Proposed Rulemaking contains proposed new or modified information collection requirements. As part of the Commission's continuing effort to reduce paperwork burdens, the Commission invites the general public and the Office of Management and Budget (OMB) to comment on the information collection requirements contained in this document, as required by the Paperwork Reduction Act of 1995, Public Law 104-13. PRA comments should address: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees. In addition, pursuant to the Small Business Paperwork Relief Act of 2002, Public Law 107-198, see U.S.C. 3506(c)(4), the Commission seeks specific comment on how it might “further reduce the information collection burden for small business concerns with fewer than 25 employees.”

20. To view a copy of this information collection request (ICR) submitted to OMB: (1) Go to the web page http://www.reginfo.gov/public/do/PRAMain, (2) look for the section of the Web page called “Currently Under Review” (3) click on the downward-pointing arrow in the “Select Agency” box below the “Currently Under Review,” heading, (4) select ”Federal Communications Commission” from the list of agencies presented in the “Select Agency” box, (5) click the “Submit” button to the right of the “Select Agency” box (6) when the list of FCC ICRs currently under review appears, look for the Title of this ICR and then click on the ICR Reference Number. A copy of the FCC submission to OMB will be displayed.

21. The proposed information collection requirements are as follows:

OMB Control Number: 3060-xxxx.

Title: Section 43.62, Annual Reporting Requirements for U.S. Providers of International Telecommunications Services and Circuits.

Form No.: N/A.

Type of Review: New Collection.

Respondents: Businesses or other profit entities.

Number of Respondents and Responses: 2,200 respondents and 2,976 responses.

Estimated Time per Response: 1 hour to 200 hours.

Frequency of Response: Annual reporting requirements.

Obligation to Respond: Required to obtain or retain benefits. The statutory authority for these proposed information collections is found at under Sections 1, 4(i)-4(j), 11, 201-205, 211, 214, 219, 220, 303(r), 309 and 403 of the Communications Act of 1934, as amended, 47 U.S.C. 151, 154(i)-154(j), 161, 201-205, 211, 214, 219-220, 303(r), 309, 403.

Total Annual Burden Hours: 107,172 hours.

Total Annual Costs: $15,300.

Nature and Extent of Confidentiality: An assurance of confidentiality is not offered because this information collection does not require the collection of personally identifiable information (PII) from individuals.

Privacy Act Impact Assessment: No impacts.

Needs and Uses: On May 12, 2011, the Commission adopted a First Report and Order and Further Notice of Proposed Rulemaking in (FCC 11-76) in Reporting Requirements for U.S. Providers of International Telecommunications Services, Amendment of Part 43 of the Commission's Rules, IB Docket No. 04-112 (rel. May 13, 2011) (Part 43 Review Order). That Order did two things. First, in the First Report and Order portion of the Part 43 Review Order (covered by a separate supporting statement), the Commission retained the annual traffic and revenue report currently contained in section 43.61 of the Commission's rules, but removed two reports that were also contained in that section. Also in the First Report and Order portion of the Part 43 Review Order, the Commission retained the annual circuit-status report currently contained in section 43.82 of the rules.

22. Second, the Further Notice of Proposed Rulemaking (FNPRM) portion of the Part 43 Review Order, proposed to modify both the traffic and revenue report and the circuit-status report to streamline them and improve the usefulness of the information the entities filing the reports will submit. The FNPRM also proposed to remove the current sections 43.61 and 43.82 and to consolidate the revised annual traffic and revenue and annual circuit-status reports into a new section 43.62. The FNPRM further proposed to replace the existing filing manuals for each report with one new, consolidated filing manual covering both reports.

Initial Regulatory Flexibility Analysis

23. As required by the Regulatory Flexibility Act (RFA),¹ the Commission has prepared this present Initial Regulatory Flexibility Analysis (IRFA) of the possible significant economic impact on small entities by the policies and rules proposed in this Further Notice of Proposed Rulemaking (FNPRM).² Written public comments are requested on this IRFA. Comments must be identified as responses to the IRFA and must be filed on or before the dated indicated above. The Commission will send a copy of this FNPRM, including the IRFA, to the Chief Counsel for Advocacy of the Small Business Administration (SBA).³ In addition, the FNPRM and IRFA (or summaries thereof) will be published in the Federal Register.⁴

¹ See 5 U.S.C. 603. The FRA, see 5 U.S.C. 601-612 has been amended by the Small Business Regulatory Enforcement Fairness Act of 1996 (SBREFA), Pub. L. 104-121, Title II, 110 Stat. 857 (1996).

² The Commission notes that it may certify this proceeding under 5 U.S.C. 605, because its action will not have a significant economic effect on a substantial number of small entities (as discussed).

³ See 5 U.S.C. 603(a).

⁴ See id.

A. Need for, and Objectives of, the Proposed Rules

24. The Commission initiated this comprehensive review of the reporting requirements imposed on U.S. carriers providing international telecommunications services. The Commission believes that the proposals contained in the FNPRM will make it easier for carriers, both small and large, to provide the information required by the rules. Other proposals will provide the Commission with information it needs but does not receive on an annual basis. In addition, section 11 of the Telecommunications Act of 1996 directs the Commission to undertake, in every even-numbered year beginning in 1998, a review of certain regulations issued under the Communications Act of 1934, as amended.⁵

⁵ Pub. L. 104-104, 110 Stat. 56 (1996).

25. The objective of the FNPRM in this proceeding is to improve the reporting requirements imposed on carriers providing international telecommunications services in the proposed 47 CFR 43.62(a) and 43.62(b). Specifically, the FNPRM proposes to simplify, consolidate, and revise the annual traffic and revenue reporting requirements and the circuit-status reporting requirements. The rule also proposes to require entities to file some additional information in the traffic and revenue report that they do not now file. Additionally, the rule proposes to relieve service providers with annual revenues less than $5 million from filing traffic and revenue reports for IMTS resale and the provision of international miscellaneous services. Finally, the rule proposes to require all providers of international telecommunications services to file an annual services report that updates their contact information and indicates whether or not they provided service during the preceding calendar year. The FNPRM also seeks comment whether to require some additional entities that provide international telecommunications services to file the annual traffic and revenue report and some additional entities that provide international facilities to file the annual circuit-status report.

26. All U.S. carriers providing international telecommunications services are required to file an annual report of their traffic and revenues under 47 CFR 43.61(a). Under the proposed consolidated 47 CFR 43.62(a), those same carriers (and possibly some additional entities that provide international telecommunications services) will file similar traffic and revenue information. All U.S. facilities-based carriers providing international telecommunications services are required to file an annual report on the status of their circuits pursuant to 47 CFR 43.82. Under the proposed 47 CFR 43.62(b), in this proceeding, those same carriers (and possibly some other providers of international telecommunications facilities) will file similar circuit-status information. The information derived from the international revenue and traffic report and circuit-status report is critical in understanding the international telecommunications market. These reports are the only source of publicly available information of this nature.

27. The information obtained from these reports is used extensively by the Commission, the industry, other government agencies, and the public. The Commission uses the information to evaluate applications for international facilities, track the development of the international telecommunications market and the competitiveness of each service and geographical market, formulate rules and policies consistent with the public interest, monitor compliance with those rules and policies, and guage the competitive effect of its decisions on the market. Carriers use the information to track the balance of payments in international communications services and for market analysis purposes. Carriers and potential entrants use the information for, among other things, assessment of market opportunities and to monitor competition in markets. The Commission, along with other government agencies such as the Department of Justice, uses the information in merger analyses and negotiations with foreign countries. In addition, the information contained in the circuit-status report allows the Commission to comply with the statutory requirements of the Omnibus Budget Reconciliation Act of 1993.

B. Legal Basis

28. The FNPRM is adopted pursuant to section 1, 4(i) and (j), 11, 201-205, 211, 214, 219, 220, 303(r), 309, and 403 of the Communications Act of 1934 as amended, 47 U.S.C. 151, 154(i), 154(j), 161, 201-205, 211, 214, 219, 220, 303(r), 309, and 403, and the Cable Landing License Act of 1921, 47 U.S.C. 35-39.

C. Description and Estimate of the Number of Small Entities to Which the Proposed Rules Will Apply

29. The RFA directs agencies to provide a description of, and, where feasible, an estimate of the number of small entities that may be affected by the proposals, if adopted.⁶ The RFA generally defines the term “small entity” as having the same meaning as the terms “small business,” “small organization,” and “small governmental jurisdiction.” ⁷ In addition, the term “small business” has the same meaning as the term “small business concern” under the Small Business Act.⁸ A small business concern is one that: (1) Is independently owned and operated; (2) is not dominant in its field of operation; and (3) satisfies any additional criteria established by the Small Business Administration (SBA).⁹

⁶ 5 U.S.C. 603(b)(3).

⁷ 5 U.S.C. 601(6).

⁸ 5 U.S.C. 601(3) (incorporating by reference the definition of “small-business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁹ 5 U.S.C. 632.

1. Traffic and Revenue Report

The proposals in the FNPRM apply only to entities providing international common carrier services pursuant to 47 U.S.C. 214; entities that operate a telecommunications “spot market” that themselves carry international traffic; entities providing domestic or international wireless common carrier services under 47 U.S.C. 309; entities providing common carrier satellite facilities under 47 U.S.C. 309; entities licensed to construct and operate submarine cables under the Cable Landing License Act on a common carrier basis; and entities that provide international terrestrial telecommunications facilities on a common carrier basis (including incumbent local exchange carriers that offer such facilities). At present, carriers that provide international telecommunications services are required to file the annual traffic and revenue report. The FNPRM seeks comment on whether to have entities providing VoIP service interconnected with the public switched telephone network also file the traffic and revenue report. The FNPRM also proposes to have all filing entities file a Services Report with information about the filing entity—such as address, phone number, e-mail address, and the international section 214 authorizations held by the carrier. Further, the FNPRM proposes a number of changes that would simplify the traffic and revenue report, as well as require some new information.

31. The entities that the FNPRM proposes to require to file the traffic and revenue and reports are a mixture of both large and small entities. The Commission has not developed a small business size standard directed specifically toward these entities. However, as described below, these entities fit into larger categories for which the SBA has developed size standards that provide these facilities or services.

32. Facilities-based Carriers. Facilities-based providers of international telecommunications services would fall into the larger category of interexchange carriers. Neither the Commission nor the SBA has developed a small business size standard specifically for providers of interexchange services. The appropriate size standard under SBA rules is for the category Wired Telecommunications Carriers. Under that size standard, such a business is small if it has 1,500 or fewer employees.¹⁰ Census Bureau data for 2007, which now supersede data from the 2002 Census, show that there were 3,188 firms in this category that operated for the entire year. Of this total, 3,144 had employment of 999 or fewer, and 44 firms had had employment of 1,000 employees or more. Thus under this category and the associated small business size standard, the majority of these interexchange carriers can be considered small entities.¹¹ According to Commission data, 359 companies reported that their primary telecommunications service activity was the provision of interexchange services.¹² Of these 359 companies, an estimated 317 have 1,500 or fewer employees and 42 have more than 1, 500 employees.¹³ Consequently, the Commission estimates that the majority of interexchange service providers are small entities that may be affected by rules adopted pursuant to the FNPRM.

¹⁰ 13 CFR 121.201, NAICS code 517110.

¹¹ U.S. Census Bureau, American FactFinder, 2007 Economic Census, http://factfinder.census.gov, (find “Economic Census” and choose “get data.” Then, under “Economic Census data sets by sector * * *” choose “Information.” Under “Subject Series,” choose “EC0751SSSZ5: Employment Size of Firms for the U.S.: 2007.” Click “Next” and find data related to NAICS code 517110 in the left column for “Wired telecommunications carriers”) (last visited March 2, 2011).

¹² See Trends in Telephone Service at Table 5.3.

¹³ See id.

33. In the 2009 annual traffic and revenue report, 38 facilities-based and facilities-resale carriers reported approximately $5.8 billion in revenues from international message telephone service (IMTS). Of these, three reported IMTS revenues of more than $1 billion, eight reported IMTS revenues of more than $100 million, 10 reported IMTS revenues of more than $50 million, 20 reported IMTS revenues of more than $10 million, 25 reported IMTS revenues of more than $5 million, and 30 reported IMTS revenues of more than $1 million. Based solely on their IMTS revenues the majority of these carriers would be considered non-small entities under the SBA definition.¹⁴

¹⁴ See 13 CFR 121.201, NAICS Code at Subsector 517—Telecommunications.

34. The 2009 traffic and revenue report also shows that 45 facilities-based and facilities-resale carriers (including 14 who also reported IMTS revenues) reported $683 million for international private line services; of which four reported private line revenues of more than $50 million, 12 reported private line revenues of more than $10 million, 30 reported revenues of more than $1 million, 34 reported private line revenues of more than $500,000; 41 reported revenues of more than $100,000, while 2 reported revenues of less than $10,000.

35. The 2009 traffic and revenue report also shows that seven carriers (including one that reported both IMTS and private line revenues, one that reported IMTS revenues and three that reported private line revenues) reported $50 million for international miscellaneous services, of which two reported miscellaneous services revenues of more than $1 million, one reported revenues of more than $500,000, two reported revenues of more than $200,000, one reported revenues of more than $50,000, while one reported revenues of less than $20,000. Based on its miscellaneous services revenue, this one carrier with revenues of less than $20,000 would be considered a small business under the SBA definition. Based on their private line revenues, most of these entities would be considered non-small entities under the SBA definition.

36. IMTS Resale Providers. Providers of IMTS resale services are common carriers that purchase IMTS from other carriers and resell it to their own customers. The SBA has developed a small business size standard for the category of Telecommunications Resellers. Under that size standard, such a business is small if it has 1,500 or fewer employees.¹⁵ Census data for 2007 show that 1,523 firms provided resale services during that year. Of that number, 1,522 operated with fewer than 1,000 employees and one operated with more than 1,000.¹⁶ Thus under this category and the associated small business size standard, the majority of these resellers can be considered small entities. In the 2009 traffic and revenue report, 1,232 carriers reported that they provided IMTS on a pure resale basis.¹⁷ Based on their IMTS resale revenues, IMTS resale service is primarily provided by carriers that would be considered small businesses under the SBA definition. For example, of the 1,232 IMTS resale carrier, 644 carriers reported revenues of less than $10,000; 1,025 had revenues less than $500,000; and 1,068 had revenues less than $1 million.¹⁸ Consequently, the Commission estimates that the majority of IMTS resellers are small entities that may be affected by our action.

¹⁵ 13 CFR 121.201, NAICS code 517911.

¹⁶ U.S. Census Bureau, American FactFinder, 2007 Economic Census, http://factfinder.census.gov, (find “Economic Census” and choose “get data.” Then, under “Economic Census data sets by sector * * *,” choose “Information.” Under “Subject Series,” choose “EC0751SSSZ5: Employment Size of Firms for the US: 2007.” Click “Next” and find data related to NAICS code 517911 in the left column for “Telecommunications Resellers”) (last visited March 2, 2011).

¹⁷ See FCC, International Bureau, Strategic Analysis and Negotiations Division, “2009 International Telecommunications Data” at page 1-2, Statistical Findings, and Table D at page 22 (April 2011). FCC website location http://www.fcc.gov/ib/sand/mniab/traffic/.

¹⁸ Id.

37. Wireless Carriers and Service Providers. Included among the providers of IMTS resale are a number of wireless carriers that also provide wireless telephony services domestically. The Commission classifies these entities as providers of Commercial Mobile Radio Services (CMRS). At present, most, if not all, providers of CMRS that offer IMTS provide such service by purchasing IMTS from other carriers to resell it to their customers. The Commission has not developed a size standard specifically for CMRS providers that offer resale IMTS. Such entities would fall within the larger category of wireless carriers and service providers. Below, for those services subject to auctions, the Commission notes that, as a general matter, the number of winning bidders that qualify as small businesses at the close of an auction does not necessarily represent the number of small businesses currently in service. Also, the Commission does not generally track subsequent business size unless, in the context of assignments or transfers, unjust enrichment issues are implicated.

38. Wireless Telecommunications Carriers (except Satellite). Since 2007, the Census Bureau has placed wireless firms within this new, broad, economic census category.¹⁹ Prior to that time, such firms were within the now-superseded categories of Paging and Cellular and Other Wireless Telecommunications.²⁰ Under the present and prior categories, the SBA has deemed a wireless business to be small if it has 1,500 or fewer employees.²¹ For the category of Wireless Telecommunications Carriers (except Satellite), Census data for 2007, which supersede data contained in the 2002 Census, show that there were 1,383 firms that operated that year.²² Of those 1,383, 1,368 had fewer than 100 employees, and 15 firms had more than 100 employees. Thus under this category and the associated small business size standard, the majority of firms can be considered small. Similarly, according to Commission data, 413 carriers reported that they were engaged in the provision of wireless telephony, including cellular service, Personal Communications Service, and Specialized Mobile Radio Telephony services.²³ Of these, an estimated 261 have 1,500 or fewer employees and 152 have more than 1,500 employees.²⁴ Consequently, the Commission estimates that approximately half or more of these firms can be considered small. Thus, using available data, we estimate that the majority of wireless firms can be considered small.

¹⁹ U.S. Census Bureau, 2007 NAICS Definitions: Wireless Telecommunications Categories (except Satellite), http://www.census.gov/naics/2007/def/ND517210.HTM (last visited March 2, 2011).

²⁰ U.S. Census Bureau, 2002 NAICS Definitions: Paging, http://www.census.gov/epcd/naics02/def/NDEF517.HTM (last visited March 2, 2011); U.S. Census Bureau, 2002 NAICS Definitions: Other Wireless Telecommunications, http://www.census.gov/epcd/naics02/def/NDEF517.HTM (last visited March 2, 2011).

²¹ 13 CFR 121.201, NAICS code 517210 (2007 NAICS). The now-superseded, pre-2007 CFR citations were 13 CFR 121.201, NAICS codes 517211 and 517212 (referring to the 2002 NAICS).

²² U.S. Census Bureau, American FactFinder, 2007 Economic Census, http://factfinder.census.gov, (find “Economic Census” and choose “get data.” Then, under “Economic Census data sets by sector * * *,” choose “Information.” Under “Subject Series,” choose “EC0751SSSZ5: Employment Size of Firms for the US: 2007.” Click “Next” and find data related to NAICS code 517210 in the left column for “Wireless Telecommunications Carriers (except Satellite)”) (last visited March 2, 2011).

²³ See Trends in Telephone Service at Table 5.3.

²⁴ See id.

39. Wireless Communications Services. This service can be used for fixed, mobile, radiolocation, and digital audio broadcasting satellite uses. The Commission defined “small business” for the Wireless Communications Services (WCS) auction as an entity with average gross revenues of $40 million for each of the three preceding years, and a “very small business” as an entity with average gross revenues of $15 million for each of the three preceding years.²⁵ The SBA has approved these definitions.²⁶The Commission auctioned geographic area licenses in the WCS service. In the auction, which commenced on April 15, 1997 and closed on April 25, 1997, seven bidders won 31 licenses that qualified as very small business entities, and one bidder won one license that qualified as a small business entity.

²⁵ Amendment of the Commission's Rules to Establish Part 27, the Wireless Communications Service, GN Docket No. 96-228, Report and Order, 12 FCC Rcd 10785, 10879, para. 194 (1997).

²⁶ See Letter from Aida Alvarez, Administrator, SBA, to Amy Zoslov, Chief, Auctions and Industry Analysis Division, Wireless Telecommunications Bureau, FCC (filed Dec. 2, 1998).

40. Providers of Interconnected VoIP services. In addition to the carriers that now file the annual traffic and revenue report, the FNPRM seeks comment whether interconnected VoIP service providers should also file data on their international voice traffic. The entities that provide such services are a mix of large and small entities. We do not have information on the size of such VoIP providers. The 2007 Economic Census includes VoIP providers in a larger class called “Internet Service Providers” (ISPs), and classes such ISPs in two categories, depending upon whether the service is provided over the provider's own facilities (e.g., cable or DSL ISPs), or over client-supplied telecommunications connections (e.g., dial-up ISPs). The former are within the category of Wired Telecommunications Carriers.²⁷ As a result, for the purpose of this IRFA we shall consider all such entities to be small entities within the meaning of the Small Business Act, which has an SBA small business size standard of 1,500 or fewer employees.²⁸ The latter are within the category of All Other Telecommunications,²⁹ which has a size standard of annual receipts of $25 million or less.³⁰ Our proposal pertains to interconnected VoIP services, which could be provided by entities that provide other services such as email, online gaming, web browsing, video conferencing, instant messaging, and other, similar IP-enabled services. The SBA has developed a small business size standard for this category; that size standard is $7.0 million or less in average annual receipts.³¹ According to Census Bureau data for 2007, there were 367 firms in this category that operated for the entire year.³² Of these, 334 had annual receipts of under $5 million, and an additional 11 firms had receipts of between $5 million and $9,999,999.³³ Consequently, we estimate that the majority of interconnected VoIP providers are small entities.

²⁷ U.S. Census Bureau, 2007 NAICS Definitions: Wired Telecommunications Carriers, http://www.census.gov/naics/2007/def/ND517110.HTM (last visited March 2, 2011).

²⁸ 13 CFR 121.201, NAICS code 517110 (updated for inflation in 2008).

²⁹ U.S. Census Bureau, 2007 NAICS Definitions: All Other Telecommunications, http://www.census.gov/naics/2007/def/ND517919.HTM (last visited March 2, 2011).

³⁰ 13 CFR 121.201, NAICS code 517919 (updated inflation in 2008).

³¹ 13 CFR 121.201 NAICS code 519190. See also http://www.sba.gov./sites/default/files/Size_Standards_Table.pdf.

³² http://factfinder.census.gov/servlet/IBQTable?_bm=y&-geo_id=&-_skip=1200&-ds_name=EC0751SSSZ4&-_lang=en.

³³ http://factfinder.census.gov/servlet/IBQTable?_bm=y&-geo_id=&-_skip=1100&-ds_name=EC0751SSSZ4&-_lang=e

41. Spot Market operators. A “spot market” is a market where IMTS providers can buy or sell call completion services for calls, including IMTS calls. A customer of the spot market enters into a contract with the spot market owner to buy or sell call completion services by interconnecting at a spot market point of presence. The spot market owner acts as broker by facilitating the exchange of calls between spot market customers, who may not know each other's identity. The Commission has not developed a small business size standard specifically for operators of spot markets. As a result, for purposes of this IRFA, we shall consider all such entities to be small businesses.

2. Circuit-Status Report

42. The proposals in the FNPRM apply only to entities that have international bearer circuits. The FNPRM proposes changes to the information that must be provided about international common carrier circuits. The FNPRM also seeks comment whether data should be reported regarding non-common carrier international circuits.

43. Providers of International Telecommunications Transmission Facilities. According to the 2009 Circuit-Status Report, 75 U.S. international facility-based carriers filed information pursuant to § 43.82 of the Commission's rules.³⁴ Some of these providers would fall within the category of interexchange carriers, some would fall within the category of Wired Telecommunications Carriers, while others may not. The Commission has not developed a small business size standard specifically for provides of interexchange services. The appropriate size standard under SBA rules is for the category Wired Telecommunications Carriers. Under that size standard, such a business is small if it has 1,500 or fewer employees.³⁵ The circuit-status report does not include employee or revenue statistics, so we are unable to determine how many carriers could be considered small entities under the SBA standard. Although it is quite possible that a carrier could be considered small entities under the SBA standard. Although it is quite possible that a carrier could report a small amount of capacity and have significant revenues, we will consider those 75 carriers to be small entities at this time. In addition, of the 79 carrier that filed an annual circuit-status report for 2009, there were at least four carriers that reported no circuits owned or in use at the end of 2009.³⁶

³⁴ See International Bureau Releases 2009 Year-End Circuit Status Report for U.S. Facilities-Based International Carriers; Capacity Use Shows Modest Growth, rel. Dec. 21, 2010. The report is available on the FCC Web site at http://www.fcc.gov/ib/pd/pf/csmanual.html.

³⁵ 13 CFR 121.201, NAICS code 517110.

³⁶ Id.

44. Satellite Telecommunications Providers. Other providers of international transmission facilities are those that operate international common carrier and non-common carrier satellite systems. Such systems provide circuits to providers of international telecommunication services or provide circuits directly to end users. With respect to the circuits such systems provide to telecommunications service providers, those circuits are reported in the circuit-status reports of those providers. Circuits that operators of international satellite systems offer directly to end users are not now reported under the circuit-status report. It is those circuits that the FNPRM proposes to require operators of international satellite services to report in the circuit-status report. The Commission has not determined a size standard specifically for operators of international satellite systems that offer circuits directly to end users. However, two economic census categories address the satellite industry. Under SBA rules, the first category has a small business size standard of $15 million or less in average annual receipts.³⁷ The second category has a size standard of $25 million or less in annual receipts.³⁸

³⁷ 13 CFR 121.201, NAICS code 517410.

³⁸ 13 CFR 121.201, NAICS code 517919.

45. The category of Satellite Telecommunications “comprises establishments primarily engaged in providing telecommunications services to other establishments in the telecommunications and broadcasting industries by forwarding and receiving communications signals via a system of satellites or reselling satellite telecommunications.” ³⁹ Census Bureau data for 2007 show that 512 Satellite Telecommunications firms that operated for that entire year.⁴⁰ Of this total, 464 firms had annual receipts of under $10 million, and 18 firms had receipts of $10 million to $24,999,999.⁴¹ Consequently, the Commission estimates that the majority of Satellite Telecommunications firms are small entities that might be affected by our action.

³⁹ U.S. Census Bureau, 2007 NAICS Definitions, Satellite Telecommunications, http://www.census.gov/naics/2007/def/ND517410.HTM (last visited March 2, 2011).

⁴⁰ U.S. Census Bureau, American FactFinder, 2007 Economic Census, http://factfinder.census.gov, (find “Economic Census” and choose “get data.” Then, under “Economic Census data sets by sector * * *,” choose “Information.” Under “Subject Series,” choose “EC0751SSSZ4: Receipts Size of Firms for the U.S.: 2007.” Click “Next” and find data related to NAICS code 517210 in the left column for “Satellite Telecommunications”) (last visited March 2, 2011).

⁴¹ Id.

46. The second category, i.e., All Other Telecommunications, comprises “establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing Internet services or voice over Internet protocol (VoIP) services via client-supplied telecommunications connections are also included in this industry.” ⁴² For this category, Census Bureau data for 2007 show that there were a total 2,383 firms that operated for the entire year.⁴³ Of this total, 2,347 firms had annual receipts of under $25 million and 12 firms had annual receipts of $25 million to $49,999,999.⁴⁴ Consequently, the Commission estimates that the majority of All Other Telecommunications firms are small entities that might be affected by our action.

⁴² U.S. Census Bureau, 2007 NAICS Definitions, All Other Telecommunications, http://www.census.gov/naics/2007/def/ND517919.HTM (last visited March 2, 2011).

⁴³ U.S. Census Bureau, American FactFinder, 2007 Economic Census, http://factfinder.census.gov, (find “Economic Census” and choose “get data.” Then, under “Economic Census data sets by sector * * *,” choose “Information.” Under “Subject Series,” choose “EC0751SSSZ4: Receipts Size of Firms for the U.S.: 2007.” Click “Next” and find data related to NAICS code 517919 in the left column for “All Other Telecommunications”) (last visited March 2, 2011).

⁴⁴ Id.

47. Operators of Non-Common Carrier Undersea Cable Systems. The FNPRM seeks comment on whether data should be filed for international non-common carrier circuits on submarine cable facilities. Neither the Commission nor the SBA has developed a size standard specifically for operators of non-common carrier undersea cables. Such entities would fall within the large category of Wired Telecommunications Carriers. The size standard under SBA rules for that category is that such a business is small if it has 1,500 or fewer employees.⁴⁵ Census Bureau data for 2007, which now supersede data from the 2002 Census, show that there were 3,188 firms in this category that operated for the entire year. Of this total, 3,144 had employment of 999 or fewer, and 44 firms had had employment of 1,000 employees or more. Thus under this category and the associated small business size standard, the majority of these carriers can be considered small entities.⁴⁶ We do not have data on the number of employees or revenues of operators of non-common carrier undersea cables. Because providers of non-common carrier undersea cables do not now file an annual circuit-status report, we do not know how many such entities provide circuits directly to end users. We do know that a number of such entities pay regulatory fees on such circuits, but the names of such entities are confidential. Because we do not have information on the number of employees or their annual revenues, we shall consider all such providers to be small entities for purposes of this IRFA.

⁴⁵ 13 CFR 121.201, NAICS code 517110.

⁴⁶ U.S. Census Bureau, American FactFinder, 2007 Economic Census, http://factfinder.census.gov, (find “Economic Census” and choose “get data.” Then, under “Economic Census data sets by sector * * *,” choose “Information”. Under “Subject Series,” choose “EC0751SSSZ5: Employment Size of Firms for the U.S.: 2007.” Click “Next” and find data related to NAICS code 517110 in the left column for “Wired Telecommunications carriers”) (last visited March 2, 2011).

48. Operators of Non-Common Carrier International Transmission Facilities. At present, carriers that provide common carrier international transmission facilities report the number of circuits they provide under the annual circuit-status report. The FNPRM seeks comment on whether data should be filed on international non-common carrier circuits on terrestrial facilities. Neither the Commission nor the SBA has developed a small business size standard specifically for providers of non-common carrier terrestrial facilities. The operators of such terrestrial facilities would fall within the larger category of Wired Telecommunications Carriers. The appropriate size standard under SBA rules for the Wired Telecommunications Carriers category is that such a business is small if it has 1,500 or fewer employees.⁴⁷ Census Bureau data for 2007, which now supersede data from the 2002 Census, show that there were 3,188 firms in this category that operated for the entire year. Of this total, 3,144 had employment of 999 or fewer and 44 firms had had employment of 1000 or more. Providers of microwave international transmission facilities would fall into the category of Fixed Microwave Services. The Commission has not yet defined a small business with respect to microwave service. For purposes of this IRFA, the Commission will use the SBA's definition applicable to Wireless Telecommuinications Carriers (except satellite). The appropriate size standard under SBA rules for the Wireless Telecommunications Carriers (except satellite) is that such a business is small if it has 1,500 or fewer employees. For the category of Wireless Telecommunications Carrier (except satellite), Census data for 2007, which supersede data contained in the 2002 Census, show that there were 1383 firms that operated that year. Of those 1,383 firms, 1,368 had fewer than 100 employees and 15 had more than 100 employees. Thus under this category and the associated small business size standard, the majority of these providers of international terrestrial facilities can be considered small providers.⁴⁸

⁴⁷ 13 CFR 121.201, NAICS code 517110.

⁴⁸ U.S. Census Bureau, American FactFinder, 2007 Economic Census, http://factfinder.census.gov, (find “Economic Census” and choose “get data.” Then, under “Economic Census data sets by sector * * *,” choose “Information.” Under “Subject Series,” choose “EC0751SSSZ5: Employment Size of Firms for the U.S.: 2007.” Click “Next” and find data related to NAICS code 517110 in the left column for “Wired telecommunications carriers”) (last visited March 2, 2011).

49. Incumbent Local Exchange Carriers. Because some of the international terrestrial facilities that are used to provide international telecommunications services may be owned by incumbent local exchange carriers, we have included small incumbent local exchange carriers in this present IRFA, to the extent that such local exchange carriers may operate such international facilities. (Local exchange carriers along the U.S.-border with Mexico or Canada may have local facilities that cross the border.) Neither the Commission nor the SBA has developed a small business size standard specifically for incumbent local exchange carriers. The appropriate size standard under SBA rules is for the cagtegory Wired Telecommunications Carriers. Under that size standard, such a business is small if it has 1,500 or fewer employees.⁴⁹ Census Bureau data for 2007, which now supersede data from the 2002 Census, show that there were 3,188 firms in this category that operated for the entire year. Of this total, 3,144 had employment of 999 or fewer and 44 firms had had employment of 1000 or more. According to Commission data, 1,307 carriers reported that they were incumbent local exchange service providers.⁵⁰ Of these 1,307 carriers, an estimated 1,006 have 1,500 or fewer employees and 301 have more than 1,500 employees.⁵¹ As noted above, a “small business” under the IRFA is one that, inter alia, meets the pertinent small business size standard (e.g., a telephone communications business having 1,500 or fewer employees), and “is not dominant in its field of operation.” ⁵² The SBA's Office of Advocacy contends that, for an IRFA, small incumbent local exchange carriers are not dominant in their field of operation because any such dominance is not “national” in scope.⁵³ Consequently, the Commission estimates that most providers of local exchange service are small entities that may be affected by the rules and policies proposed in the FNPRM. We have therefore included small incumbent local exchange carriers in this IRFA, although we emphasize that this IRFA action has no effect on Commission analysis and determinations in other, non-IRFA contexts. Thus under this category and the associated small business size standard, the majority of these incumbent local exchange service providers can be considered small providers.⁵⁴

⁴⁹ 13 CFR 121.201, NAICS code 517110.

⁵⁰ See Trends in Telephone Service, Federal Communications Commission, Wireline Competition Bureau, Industry Analysis and Technology Division at Table 5.3 (Sept. 2010) (Trends in Telephone Service).

⁵¹ See Id.

⁵² 15 U.S.C. 632.

⁵³ Letter from Jere W. Glover, Chief Counsel for Advocacy, SBA, to William E. Kennard, Chairman, FCC (May 27, 1999). The Small Business Act contains a definition of “small-business concern,” which the RFA incorporates into its own definition of “small business.” See 15 U.S.C. 632(a) (Small Business Act); 5 U.S.C. 601(3) (RFA). SBA regulations interpret “small business concern” to include the concept of dominance on a national basis. 13 CFR 121.102(b).

⁵⁴ U.S. Census Bureau, American FactFinder, 2007 Economic Census, http://factfinder.census.gov, (find “Economic Census” and choose “get data.” Then, under “Economic Census data sets by sector * * *,” choose “Information.” Under “Subject Series,” choose “EC0751SSSZ5: Employment Size of Firms for the U.S.: 2007.” Click “Next” and find data related to NAICS code 517110 in the left column for “Wired telecommunications carriers”) (last visited March 2, 2011).

D. Description of Projected Reporting, Recordkeeping, and Other Compliance Requirements

50. The First Report and Order Portion of this order decided to retain the annual traffic and revenue reporting requirements and the annual circuit-status reporting requirements because it found that the collection and public reporting of this information continues to be necessary in the public interest. The FNPRM portion of this order seeks comment on whether some additional entities that offer international telecommunications services should also file the annual traffic and revenue report. It also seeks comment on whether data should be filed for international non-common carrier circuits on submarine cable, satellite and terrestrial facilities. These additional entities play a significant role in the U.S. international telecommunications market. The FNPRM seeks comment on whether data from these entities is needed to gain a more comprehensive reporting of the international telecommunications market.

51. The FNPRM, however, also proposes to simplify and clarify the reporting requirements to reduce the burdens for both small and large carriers. Because carriers currently are required to file annual traffic and revenue and circuit-status report, the proposals contained in the FNPRM will not impose any significant additional economic burden on small carriers. The proposal to exempt filing entities that only provide IMTS resale and have less than $5 million in annual revenues from filing traffic and revenue data will exempt over 1,100 carriers from filing traffic and revenue data. The FNPRM seeks comment on whether to have additional entities to file the report, which if imposed would place a burden on those additional entities to file a traffic and revenue report. However, because the information contained in the proposed reporting requirements is the same information that the carriers collect and maintain during the routine course of business, that burden should not be substantial.

52. The FNPRM contains proposed revisions to the traffic and revenue reporting requirements, including a new proposed Service Report and five proposed schedules that show the specific information that filing entities would be required to report and how they would report it. The proposed reporting requirements are described below. However, because the Commission may change the reporting proposed in the FNPRM based on comments received in this proceeding, the schedules may also change.

53. First, the FNPRM proposes a new, generic Service Report that all entities that provide international telecommunications services or facilities would be required to file annually. This report would require such entities to file basic information on the services or facilities they provided in the preceding calendar year. Specifically, the entity would be required to provide its name, its Form 499-A identification number,⁵⁵ its Commission Registration System (CORES) identification number ⁵⁶ and to update its contact information. Additionally, those carriers that hold authorizations under section 214 of the Communications Act are required to list those authorizations. In addition, a filing entity would be required to indicate which international telecommunications services it provided during the previous year. Based on the services the responding carrier reported, the schedule would inform the carrier which other schedules, if any, the carrier would be required to complete.

⁵⁵ FCC Form 499-A is the Commission's Telecommunications Reporting Worksheet. All telecommunications carriers are required to file this form annually to calculate contributions to the universal service support mechanisms, as well as to the TRS Fund, the cost recovery for numbering administration, and the cost recovery for the shared costs of local number portability. In addition, the information is used by carriers to comply with the Commission's registration requirement for new and existing carriers providing interstate telecommunications service.See 47 CFR 52.1(b), 52.32(b), 54.711(a), 64,604(c)(4)(iii)(B), and 64.1195.

⁵⁶ CORES is a Web-based, password-protected, registration system that assigns a unique 10-digit FCC Registration Number (FRN) for use when doing business with the FCC. See New Commission Registration System (CORES) to be Implemented July 19, Public Notice, 15 FCC Rcd 18754 (2000).

54. Proposed Schedule 1 would replace the IMTS billing codes used in the 47 CFR 43.61 report and would, like those codes, require filing entities to continue to submit country-by-country traffic and revenue information for their IMTS service—albeit in a much simplified manner. Filing entities would use the proposed Schedule 1 to report both “outbound” and “inbound” IMTS traffic and revenues. The proposed schedule would require filing entities to report their minutes of outbound and inbound IMTS, the revenues associated with those minutes, the amount of payouts they make to foreign telecommunications organizations for terminating outbound traffic and the amount of settlement receipts they receive from foreign telecommunications entities to terminate traffic in the United States. The proposed schedule would institute a new requirement for filing entities to report separately the payments they make to their correspondents for terminating traffic on landline networks from the payments for terminating traffic on mobile networks (mobile termination rates). This information is needed because current mobile termination rates are significantly higher that the rates for termination on landline networks and those charges may be excessive, not cost based and possibly discriminatory. The FNPRM proposes to clarify the reporting of “non-route-specific revenues” derived from monthly or non-recurring charges for international calling plans by requiring a filing entity to allocate such revenues in way that relates them to the entity's international traffic.

55. The proposed Schedule 1 would make a number of changes that would simplify the reporting of IMTS. First, filing entities would no longer be required to report the number of outbound or inbound IMTS calls they handled. Second, the proposed schedule would eliminate the requirement that filing entities report regional totals for their IMTS services. Third, the proposed schedule would also eliminate the current requirement that filing entities separately report traffic they settle under alternative arrangements such as “country direct,” “country beyond” and reorigination. Rather, filing entities would be able to include information on such traffic in the total traffic and revenue figures they report for each country they serve.

56. Proposed Schedule 2 would require filing entities to report a number of pieces of traffic and revenue information on a world-total, rather than route-by-route basis. First, it would require filing entities to report their would-total traffic and revenues for facilities-based IMTS and for IMTS resale they handled during the preceding year. Filing entities would be required to total the traffic and revenue figures for these two services to report a total traffic and revenue figure for all U.S.-billed IMTS and to report the percentage of those world-total figures that is attributable to non-route-specific revenues. Second, the proposed schedule would require filing entities to report their world-total U.S.-billed IMTS minutes and revenues separately for three major segments (residential, business and government, and U.S. resellers). Third, the proposed schedule would require riling entities to report on a world-total, rather than route-by-route basis, the traffic and revenues they derive from reoriginated traffic and from traditional transiting IMTS. The proposed schedule would simplify the reporting of IMTS resale by eliminating the current requirement that filing entities provide a list of the countries to which they provided IMTS resale. Additionally, the proposed schedule would exempt from the IMTS resale filing requirement any filing entity that had IMTS resale revenues of less than $5 million during the preceding year.

57. Proposed Schedule 3 would require filing entities to provide country-by-country information on the international private line services they provided in the preceding year. The proposed schedule would require filing entities to report separately the revenues they received for private line service provided over facilities they own and for service provided over resold circuits. Filing entities would no longer be required to report separately each type of private line service they provided. Rather, they would merely report the 64 Kbps equivalents of the private line circuits they provided.

58. Proposed Schedule 4 would require filing entities to continue to provide world-total revenue information for each international “miscellaneous service” they provided during the preceding year, but on a simplified basis. Services other than IMTS and private line service would be considered “miscellaneous service.” First, the proposed schedule would exempt from the filing requirement any miscellaneous service for which a filing entity had less than $5 million in revenue. Second, filing entities would no longer be required to report the volume of traffic of each service they provided. Filing entities would be required to provide only the name and a brief description for each miscellaneous service and the total annual revenues they received for that service.

59. Proposed Schedule 5 would implement the revised circuit-status report. The proposed schedule would continue to require filing entities to provide a snapshot of their active and idle circuits as of December 31 of each year, but on a simplified basis. Filing entities would continue to report the circuits they have in place for each country they serve. Filing entities would also continue to report separately the circuits they have on submarine cables, satellites, and terrestrial links. The proposed schedule would continue to require filing entities to report their circuit use in units of 64 Kbps equivalent circuits. The proposed schedule, however, would no longer require filing entities to report separately each service for which they use their circuits. The proposed schedule would also eliminate the current requirement that filing entities report the number of 64 Kbps equivalent virtual circuits they derive from their bearer circuits by means of circuit-multiplication equipment.

Steps Taken To Minimize Significant Economic Impact on Small Entities, and Significant Alternatives Considered

60. The RFA requires an agency to describe any significant, specifically small business, alternatives that it has considered in reaching its proposed approach, which may include the following four alternatives (among others): “(1) The establishment of differing compliance or reporting requirements or timetables that take into account the resources available to small entities; (2) the clarification, consolidation, or simplification of compliance and reporting requirements under the rule for small entities; (3) the use of performance, rather than design, standards; and (4) an exception from coverage or the rule, or any part thereof, for small entities.” ⁵⁷

⁵⁷ 5 U.S.C. 603(c)(1)-(c)(4).

61. The FNPRM seeks comment on a number of proposals to simplify and consolidate the reporting requirements for carriers providing international telecommunications services. The proposals in the FNPRM are designed to reduce the regulatory requirements for both small and large carriers, while maintaining and enhancing the goals the reports serve.

62. The possible change to the reporting requirements with the most significant impact on small carriers is the proposal to exempt pure resale carriers with less than $5 million in revenues from IMTS resale during the preceding year from the need to file a traffic and revenue report. Based on the number of carriers filing the annual traffic and revenue report in 2009, the majority of carriers would be considered small carriers.⁵⁸ This proposal would benefit a substantial number of small entities by relieving them from the requirement to report their IMTS resale traffic.

⁵⁸ See FCC, 2009 International Telecommunications Data, p. 1, Statistical Findings (April 2000). The report is available at http://www.fcc.gov/ib/sand/mniab/traaffic/.

63. The FNPRM proposes to simplify the information that the carriers, both small and large, must submit for any traffic and revenue reports. First, the FNPRM proposes to eliminate the requirement that carriers provide information on the number of messages that they carried the previous year. Second, the FNPRM proposes to eliminate the requirement that carriers use the billing codes set out in the Filing Manual and the Public Notices. Currently, carriers report international telephone traffic under 12 different billing codes, and the various billing codes have presented recurrent problems for carriers filing the reports as well as those who review the reports. Third, the FNPRM proposes a set of schedules for the reporting of the traffic and revenue and circuit-status information in lieu of the two filing manuals that are currently used. The FNPRM proposes to streamline some of the reporting categories, which will reduce the reporting requirements on both small and large entities.

64. The FNPRM proposes to consolidate 47 CFR 43.61 (traffic and revenue reporting requirement) and 47 CFR 43.82 (circuit-status reporting requirement) into one rule. Consolidating the rules will eliminate the requirement that carriers file two separate reports—one for traffic and revenue data and one for circuit-status data. The FNPRM proposes that one filing manual be developed that will satisfy the reporting requirements of the new rule. One consolidated filing manual for both reports would be less confusing and less time-consuming for both small and large carriers.

65. The FNPRM also proposes to require carriers to file the report earlier than currently required in order to improve the timeliness of the resulting report. In selecting a proposed filing date, the Commission tried to balance the need for more expeditious filing with any burden an earlier filing would place on carriers. In addition, with more timely-filed data, it would be unnecessary for carriers to file corrected traffic and revenue data. The proposed new filing date minimizes any burden on the carriers because it does not coincide with any other reporting requirements. Also, carriers will not be burdened with filing another report with corrected data.

66. The FNPRM seeks comment on whether it would significantly speed and facilitate the submission of data if the Commission were to encourage or mandate carriers to submit their data electronically. Electronic filing would lessen the burden of filing the reports for both small and large carriers. Because carriers maintain the data electronically, it would be practicable for carriers to submit the data in the same format rather than convert the data into a different format.

67. The FNPRM proposes a general report that will make it very simple for a carrier to determine which, if any, reporting requirements are applicable to the carrier. In addition, this proposal will simplify a carrier's compliance with other reporting requirements, such as the form 499-A.

F. Federal Rules That May Duplicate, Overlap, or Conflict With the Proposed Rule

68. None.

Ordering Clauses

69. It is ordered that, pursuant to the authority contained in sections 1, 4(i), 4(j) 11, 201-205, 211, 214, 219, 220, 303(r), 309, and 403 of the Communications Act of 1934, as amended, 47 U.S.C. 151, 154(i), 154(j), 161, 201-205, 211, 214, 219, 220, 303(r), 309 and 403, and the Cable Landing License Act of 1921, 47 U.S.C. 35-39, this Further Notice of Proposed Rulemaking is hereby adopted and comments are requested as described above.

70. It is further ordered that the Commission's Consumer and Government Affairs Bureau, Reference Information Center, shall send a copy of this further notice of proposed rulemaking, including the Initial Regulatory Flexibility Act Analysis, to the Chief Counsel for Advocacy of the Small Business Administration in accordance with section 603(a) of the Regulatory Flexibility Act, 5 U.S.C. 601 et seq.

List of Subjects in 47 CFR Parts 0, 43 and 63

Communications, Communications common carriers, Telecommunications, Telephone.

Federal Communications Commission.
Marlene H. Dortch,
Secretary.

Proposed Rules

For the reasons discussed in the preamble, the Federal Communications Commission proposes to amend 47 CFR parts 0, 43, and 63 as follows:

PART 0—COMMISSION ORGANIZATION

1. The authority citation for part 0 continues to read as follows:

Authority: Sec. 5, 48 Stat. 1068; as amended, 47 U.S.C. 155, 225, unless otherwise noted.

2. Section 0.457 is amended by adding paragraph (d)(1)(viii) to read as follows:

§ 0.457 Records not routinely available for public inspection.

* * * * *

(d) * * *

(1) * * *

(viii) Disaggregated international revenue payout and traffic data filed under § 43.62 of this chapter.

* * * * *

PART 43—REPORTS OF COMMUNICATION COMMON CARRIERS, PROVIDERS OF INTERNATIONAL INTERCONNECTED VOICE OVER INTERNET PROTOCL SERVICES AND CERTAIN AFFILIATES

3. The authority citation for part 43 is revised to read as follows:

Authority: 47 U.S.C. 154; Telecommunications Act of 1996; Pub. L. 104-104, sec. 402(b)(2)(B), (c), 110 Stat. 56 (1996) as amended unless otherwise noted. 47 U.S.C. 211, 219, 220, as amended; Cable Landing License Act of 1921, 47 U.S.C. 35-39.

4. Revise the heading to part 43 to read as set forth above.

§ 43.61 [Removed]

5. Remove § 43.61.

6. Add § 43.62 to read as follows:

§ 43.62 Reporting requirements for holders of international Section 214 authorizations and providers of international services.

(a) Annual reports. Not later than May 1 of each year, any person or entity that holds an authorization pursuant to section 214 of the Communications Act to provide international telecommunications service; or any person or entity that provided interconnected Voice over Internet Protocol service between the United States (as defined in the Communications Act, as amended, 47 U.S.C. 153) and a foreign point during the previous year; shall submit the following reports:

(1) Any person or entity that holds an authorization pursuant to section 214 to provide international telecommunications service shall report whether it provided international telecommunications services or owned international circuits the preceding year.

(2) Each common carrier engaged in providing international telecommunications service, and each person or entity engaged in providing interconnected Voice over Internet Protocol service, between the United States (as defined in the Communications Act, as amended, 47 U.S.C. 153) and any country or point outside that area shall file a report with the Commission showing revenues, payouts, and traffic for such international telecommunications service and interconnected Voice over Internet Protocol service provided during the preceding calendar year.

(3) Each person or entity owning international facilities between the United States (as defined in the Communications Act, as amended, 47 U.S.C. 153) and any country or point outside that area shall file a circuit-status report with the Commission showing the status of its circuits as of December 31 of the preceding calendar year.

(b) Filing manual. The information required under this section shall be furnished in conformance with the instructions and reporting requirements prepared under the direction of the Chief, International Bureau, prepared and published as a filing manual.

§ 43.82 [Removed]

7. Remove § 43.82.

PART 63—EXTENSION OF LINES, NEW LINES AND DISCONTINUANCE, REDUCTION, OUTAGE AND IMPAIRMENT OF SERVICE BY COMMON CARRIERS; AND GRANTS OR RECOGNIZED PRIVATE OPERATING AGENCY STATUS

8. The authority citation for part 63 continues to read as follows:

Authority: Sections 1, 4(i), 4(j), 10, 11, 201-205, 214, 218, 403 and 651 of the Communications Act of 1934, as amended, 47 U.S.C. 151, 154(i), 154(j), 160, 201-205, 214, 218, 403, and 571, unless otherwise noted.

9. Section 63.10 is amended by revising paragraphs (c)(2) and (c)(4) as follows:

§ 63.10 Regulatory classification of U.S. international carriers.

* * * * *

(c) * * *

(2) File quarterly reports on traffic and revenue, consistent with the reporting requirements authorized pursuant to § 43.62 of this chapter, within 90 days from the end of each calendar quarter;

* * * * *

(4) In the case of an authorized facilities-based carrier, file quarterly circuit status reports within 90 days from the end of each calendar quarter in the format set out for circuit status reports by the filing manual for § 43.62 of this chapter, except that activated or idle circuits must be reported on a facility-by-facility basis.

* * * * *

10. Section 63.21 is amended by revising paragraph (d) to read as follows:

§ 63.21 Conditions applicable to all international Section 214 authorizations.

* * * * *

(d) Carriers must file annual reports of overseas telecommunications traffic as required by § 43.62 of this chapter.

* * * * *

11. Section 63.22 is amended by revising paragraph (e) to read as follows:

§ 63.22 Facilities-based international common carriers.

* * * * *

(e) The carrier shall file annual international circuit status reports as required by § 43.62 of this chapter.

* * * * *

[FR Doc. 2011-18153 File 7-18-11; 8:45 am]

BILLING CODE 6712-01-P